DEPARTMENT OF DEFENSE

Office of the Secretary

[Transmittal No. 18-0H]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(5)(c) arms sales notification is published to fulfill the requirements of section 155 of Public Law 104-164 dated July 21, 1996. The following is a copy of a letter to the Speaker of the House of Representatives and Transmittal 18-0H with attached Policy Justification.

Dated: November 2, 2018.
Aaron T. Siegel,
Alternate OSD Federal Register Liaison Officer, Department of Defense.

Transmittal No. 18-0H

REPORT OF ENHANCEMENT OR UPGRADE OF SENSITIVITY OF TECHNOLOGY OR CAPABILITY (SEC. 36(B)(5)(C), AECA)

(i) Purchaser: Government of Slovakia

(ii) Sec. 36(b)(1), AECA Transmittal No.: 18-10

Date: April 3, 2018

Military Department: Air Force

(iii) Description: On April 3, 2018, Congress was notified by Congressional certification transmittal number 18-10 of the possible sale under Section 36(b)(1) of the Arms Export Control Act of fourteen (14) F-16 Block 70/72 V Configuration Aircraft, fifteen (15) M61 Vulcan 20mm Gun, sixteen (16) F-16V F110 General Electric or F100 Pratt & Whitney Engines, sixteen (16) APG-83 Active Electronically Scanned Array (AESA) Radar, fourteen (14) Modular Mission Computers, fourteen (14) Link-16 Multifunctional Information Distribution System-JTRS, sixteen (16) LN260 Embedded Global Positioning Service Inertial Navigation Systems (EGI), fourteen (14) Improved Programmable Display Generator (iPDG), thirty (30) AIM-120C7 missiles, two (2) Guidance Sections for AIM-120C7, one hundred (100) AIM-9X missiles, twelve (12) AIM-9X Captive Air Training Missile (CATM), twelve (12) AIM-9X CATM Guidance Units, twelve (12) AIM-9X Tactical Guidance Units, two hundred twenty-four (224) MAU-209C/B or MAU-169D Computer Control Group (CCG) for GBU-12 Paveway II 5001b Guided Bombs, two hundred twenty-four (224) MXU-650/8 Airfoil Group for GBU-12, twenty (20) MAU-210 Enhanced CCG for Enhanced Paveway II (GBU-49), twenty (20) MXU-650 Airfoil Group for GBU-49, one hundred-fifty (150) KMU-572F/B Guidance Kit for Joint Direct Attack Munition (JDAM) 5001b Guided Bomb (GBU-38), sixty (60) LAU-129 Guided Missile Launchers, thirty-six (36) MK-82 or BLU-111 5001b Inert Fill Bombs, four hundred ( 400) MK-82 or BLU-111 5001b Bomb Bodies, four hundred ( 400) FMU-152 Joint Programmable Fuzes, six (6) AN/AAQ-33 Sniper Pods, fourteen (14) Joint Helmet Mounted Cueing System II; fourteen (14) AN/ALQ-213 Electronic Warfare Management Systems; sixteen (16) AN/ALQ-211 Advanced Integrated Defensive Electronic Warfare Suites; sixteen (16) AN/ALE-47 Countermeasure Dispensers; Advanced Identification Friend or Foe (AIFF), Secure Communications and Cryptographic Appliques; Joint Mission Planning System (JMPS); ground training device (flight simulator); Electronic Combat International Security Assistance Program (ECISAP) support; software and-support; facilities and construction support; spares and repair/replace parts; personnel training and training equipment; publications and technical documentation; missile containers; DSU-38A/B Laser Illuminated Target Detector (GBU-54); munition support and test equipment; aircraft and munition integration and test support; studies and surveys; U.S. Government and contractor technical, engineering and logistical support services; and other related elements of logistics and program support. The estimated total cost was $2.91 billion. Major Defense Equipment (MDE) constituted $2.01 billion of this total.

This transmittal notifies the addition of:

1. Two (2) F110 General Electric or F100 Pratt & Whitney engines (MDE);

2. Four (4) Improved Programmable Display Generators (iPDG) (MDE);

3. Four (4) Modular Mission Computers (MDE);

4. Four (4) Link-16 Multifunctional Information Distribution System-JTRS (MDE);

5. Ninety-six (96) MXU-650C/B Airfoil Groups (MDE);

6. Ninety-six (96) MAU-209C/B or MAU-169D Computer Control Groups (MDE);

7. Twelve (12) Guidance Units for AIM-9X-2 Tactical Missiles (MDE);

8. Twelve (12) Guidance Units for AIM-9X-2 CATM (MDE);

9. Thirty (30) Captive Air Training Missiles (CATM)-120C (non-MDE);

10. Twelve (12) Joint Helmet Mounted Cueing System II (JHMCS II) (non-MDE);

11. Twenty (20) Aviator Night Vision Device (NVD) AN/AVS-9 (non-MDE)

The additional MDE items are valued at $30.6 million but will not result in a change to the notified total MDE value of the case. The total case value remains $2.91 billion.

(iv) Significance: This notification is provided to report the inclusion of MDE items and non-MDE item which represents an increase in capability over that previously notified. At the time of the original notification, the purchasing country had not finalized exact quantities of certain items. Further technical discussions highlighted the need for NVDs and additional spare items, training missiles, guided bomb kit components, and helmets. The additional items provide Slovakia with the necessary equipment to support the requested capability.

(v) Justification: This proposed sale will support the foreign policy and national security of the United States by helping to improve the security of a NATO ally. The proposed additions will support Slovakia's F-16 program, which will modernize its Air Force and strengthen its homeland defense.

(vi) Sensitivity of Technology: AN/AVS-9 NVDs are third generation aviation NVDs offering higher resolution, high gain, and photo response to near-infrared. Hardware is UNCLASSIFIED and technical data and documentation to be provided are UNCLASSIFIED.

AIM-120 CATMS are non-functioning, inert missile rounds that simulate the correct weight and balance of live missiles; they are used for armament loading and unloading training as well as flown captive carry on training sorties.

The Sensitivity of Technology statement contained in the original AECA 36(b)(1) transmittal applies to all other MDE items reported here.

(vii) Date Report Delivered to Congress: October 17, 2018

[FR Doc. 2018-24413 Filed 11-7-18; 8:45 am]

BILLING CODE 5001-06-P